SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) federal agencies to publish a notice in the Federal Register concerning each proposed collection of information before submission to OMB, and to allow 60 days for public comment in response to the notice. This notice complies with that requirement.

DATES: Submit comments on or before May 30, 2023.

ADDRESSES: Send all comments to Mary Frias, Loan Specialist, Office of Financial Assistance, Small Business Administration, Washington, DC 20416.

FOR FURTHER INFORMATION CONTACT: Mary Frias, Loan Specialist, 202-401-8234, mary.frias@sba.gov, or Curtis B. Rich, Agency Clearance Officer 202-205-7030, curtis.rich@sba.gov.

SUPPLEMENTARY INFORMATION: Section 7(a) of the Small Business Act authorizes the Small Business Administration to guaranty loans in each of the 7(a) Programs. The regulations covering these and other loan programs at 13 CFR part 120 require certain information from loan applicants and lenders that is used to determine program eligibility and compliance.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB 3245-0348

Title: Borrower Information Form, Lenders Application for Guaranty, and 7(a) Loan Post Approval Action Checklist.

SBA Forms: 1919, 1920 A, 1920 B, 1920 C, 2237, 2238.

Description of Respondent: 7(A) Program Participants.

Total Estimated Annual Responses: 205,080.

Total Estimated Annual Hour Burden: 43,155.

Curtis Rich,
Agency Clearance Officer.

[FR Doc. 2023-06483 Filed 3-28-23; 8:45 am]

BILLING CODE 8026-09-P